DEPARTMENT OF HEALTH AND HUMAN SERVICES

Agency for Healthcare Research and Quality

Potential Consumer Assessment of Healthcare Providers and Systems (CAHPS®) Survey on Prenatal and Childbirth Care Experiences in Ambulatory and Inpatient Settings: Request for Information

AGENCY: Agency for Healthcare Research and Quality, HHS.

ACTION: Notice of Request for Information regarding a potential Consumer Assessment of Healthcare Providers and Systems (CAHPS®) survey to assess patients' prenatal and childbirth care experiences in ambulatory and inpatient settings.

SUMMARY: The Agency for Healthcare Research and Quality (AHRQ) invites public comment in response to this Request for Information (RFI) about a potential Consumer Assessment of Healthcare Providers and Systems (CAHPS®) survey to assess patients' prenatal care and childbirth care experiences in ambulatory and inpatient care settings. Currently, no CAHPS instrument is available that is specifically designed to measure prenatal and childbirth care from the patient's perspective in these settings. Accordingly, this RFI seeks comments regarding methodologically sound approaches to assessing prenatal and childbirth care experiences in healthcare settings about topics such as communication with providers, respect, access to services, and patients' perceptions of bias in receiving care.

This RFI also seeks comments about any (1) existing patient experience surveys or survey items that might be incorporated into public domain CAHPS ambulatory and inpatient prenatal and childbirth experience surveys; and, (2) special considerations or concerns associated with the collection of such information. This RFI will help inform the development of scientifically sound surveys to potentially measure the experience of patients receiving prenatal and childbirth care.

DATES: Comments on this notice must be received by May 5, 2023.

ADDRESSES: Interested parties may submit comments electronically to CAHPS1@westat.com with the subject line “Prenatal and Childbirth Care Experience Survey RFI.”

FOR FURTHER INFORMATION CONTACT: Questions may be addressed to Caren Ginsberg, Director, CAHPS and SOPS Programs, Center for Quality Improvement and Patient Safety, caren.ginsberg@ahrq.hhs.gov.

SUPPLEMENTARY INFORMATION: AHRQ is seeking public comment about survey characteristics and data collection approaches and strategies to optimize the meaningfulness of patient experience information from patients receiving prenatal and childbirth healthcare, that is, care received in a hospital or birthing center, during labor, delivery, and their stay in the hospital or birthing center. AHRQ's CAHPS Program advances scientific understanding of patient healthcare experiences using surveys developed for different healthcare settings. The CAHPS surveys cover topics that are important to patients and which patients are best able to assess, such as communication with providers, shared decision making, and access to health care services. CAHPS surveys measure care experiences; that is, what happened or how often something happened, in a health care encounter. CAHPS surveys do not collect information about availability of specific services; limitations to receiving specific services or procedures; or patient satisfaction (e.g., patients' expectations for, or how they felt about, their care). Information collected by CAHPS surveys can motivate and focus quality improvement efforts and/or choice of providers by survey sponsors, health care organizations, clinicians, patients, consumers, and other stakeholders.

Specific questions of interest to AHRQ include, but are not limited to:

1. What are the highest priority aspect(s) of patient experiences with prenatal healthcare that should be asked about in a survey?

a. Why are these aspect(s) of patient experience a high priority for inclusion in a survey of prenatal healthcare?

b. What other topic area(s) should be included in a new survey assessing prenatal healthcare?

2. What are the highest priority aspect(s) of patient experiences with childbirth healthcare that should be asked about in a survey?

a. Why are these aspect(s) of patient experience a high priority for inclusion in a survey of childbirth healthcare?

b. What other topic area(s) should be included in a new survey assessing patient experiences with childbirth health care?

3. For which prenatal care settings should measures and/or surveys be developed? For example, should measures and/or surveys be developed for group practices? Hospitals? Birthing centers? Ambulatory care practices? Other settings?

4. For which childbirth care settings should measures and/or surveys be developed? For example, should measures and/or surveys be developed for hospitals? Birthing centers? Ambulatory care practices? Other settings?

5. What, if any, challenge(s) are there to collecting information about patient experiences with prenatal and childbirth healthcare?

6. What actions or approaches would facilitate the collection of information about the experience of patients with prenatal and childbirth healthcare?

(a) What data collection approach(es) would be most likely to promote participation by respondents to a survey of prenatal and childbirth healthcare (e.g., web-based; paper-and-pencil; etc.)?

(b) Are there any way(s) that data collection approach(es) would differ based on whether patients received healthcare in inpatient care settings compared to ambulatory care settings?

7. Which survey measure(s) that assess prenatal and/or childbirth care experiences are currently being used? Please note that these surveys or items might be found in the patient satisfaction domain. Feel free to include them in response to this RFI.

(a) Which respondent groups (e.g., patients in inpatient settings; family members; providers; etc.) are asked to complete these survey(s)?

(b) How are these currently used survey(s) administered (for example, paper-and-pencil; web-based; etc.) to patients?

(c) What information is collected in these survey(s) that assess prenatal care and/or childbirth experiences? How well do these surveys perform? What are the strengths of the survey(s) currently in use?

(d) What content area(s) are missing from these survey(s) that are currently in use?

(e) Which content area(s) are low priority or not useful in these currently used survey(s)? Why are they not useful?

(f) How are the results and findings of these current survey(s) used to evaluate and/or improve care quality in inpatient and ambulatory healthcare settings? Are the results and findings of these current survey(s) used for other purposes?

(g) Are there any item(s) that address perceived bias in care that have been used to assess prenatal and/or childbirth care experiences of patients? How have these item(s) measured or operationalized “perceived bias in care?” What, if any, limitations do these item(s) have in measuring “perceived bias in care?”

Respondents to this RFI are welcome to address as many or as few of these questions as they choose and/or to address additional areas of interest not listed.

This RFI is for planning purposes only and should not be construed as a policy, solicitation for applications, or as an obligation on the part of the Government to provide support for any ideas in response to it. AHRQ will use the information submitted in response to this RFI at its discretion, and will not provide comments to any respondent's submission. However, responses to this RFI may be reflected in future initiatives, solicitation(s), notices of funding opportunities, or policies. Respondents are advised that the Government is under no obligation to acknowledge receipt of the information received or provide feedback to respondents with respect to any information submitted. No proprietary, classified, confidential or sensitive information should be included in your response. The contents of all submissions will be made available to the public upon request. Submitted materials must be publicly available or able to be made public.

Dated: March 20, 2023.
Marquita Cullom,
Associate Director.

[FR Doc. 2023-05988 Filed 3-22-23; 8:45 am]

BILLING CODE 4160-90-P